DEPARTMENT OF THE INTERIOR

Fish and Wildlife Service

50 CFR Part 17

[Docket No. FWS-R8-ES-2018-0105; 4500030113]

RIN 1018-BD85

Endangered and Threatened Wildlife and Plants; Threatened Species Status for West Coast Distinct Population Segment of Fisher With Section 4(d) Rule

AGENCY: Fish and Wildlife Service, Interior.

ACTION: Revised proposed rule; reopening of public comment period.

SUMMARY: We, the U.S. Fish and Wildlife Service (Service), recently published a document proposing changes to our October 7, 2014, proposed rule to list the West Coast distinct population segment (DPS) of fisher (Pekania pennanti) as a threatened species under the Endangered Species Act (Act) and proposing a rule issued under section 4(d) of the Act for this DPS. We announced the opening of a 30-day public comment period on the revised proposed rule, ending December 9, 2019. We now reopen the public comment period for an additional 15 days, to allow all interested parties more time to comment on the revised proposed rule. Comments previously submitted need not be resubmitted and will be fully considered in preparation of the final determination.

DATES: The public comment period on the revised proposed rule that published November 7, 2019, at 84 FR 60278, is reopened. We will accept comments received or postmarked on or before January 3, 2020. Please note that if you are using the Federal eRulemaking Portal (see ADDRESSES, below), the deadline for submitting an electronic comment is 11:59 p.m. Eastern time on this date.

ADDRESSES: You may submit comments by one of the following methods:

(1) Electronically: Go to the Federal eRulemaking Portal: http://www.regulations.gov. In the Search box, enter FWS-R8-ES-2018-0105, which is the docket number for the action. Then, click on the Search button. On the resulting page, in the Search panel on the left side of the screen, under the Document Type heading, click on the Proposed Rule box to locate the correct document. You may submit a comment by clicking on “Comment Now!” Please ensure that you have found the correct rulemaking before submitting your comment.

(2) By hard copy: Submit by U.S. mail or hand delivery to: Public Comments Processing, Attn: Docket No. FWS-R8-ES-2018-0105, U.S. Fish and Wildlife Service, MS: JAO/1N, 5275 Leesburg Pike, Falls Church, VA 22041-3803.

We request that you send comments only by the methods described above. We will post all comments on http://www.regulations.gov. This generally means that we will post any personal information you provide us (see Public Comments, below, for more information).

Document availability: The revised proposed rule is available on http://www.regulations.gov at Docket No. FWS-R8-ES-2018-0105 and on our website at https://www.fws.gov/Yreka. Comments and materials we received during a previous comment period, as well as supporting documentation we used in preparing the preceding proposed rule, are also available for public inspection at Docket No. FWS-R8-ES-2014-0041. In addition, the supporting files for the revised proposed rule will be available for public inspection, by appointment, during normal business hours, at our Yreka Fish and Wildlife Office, 1829 South Oregon Street, Yreka, CA 96097; telephone 530-842-5763.

FOR FURTHER INFORMATION CONTACT: Jenny Ericson, Field Supervisor, Yreka Fish and Wildlife Office, telephone: 530-842-5763. Direct all questions or requests for additional information to: WEST COAST DPS FISHER QUESTIONS, U.S. Fish and Wildlife Service, Yreka Fish and Wildlife Office, 1829 South Oregon Street, Yreka, CA 96097. Persons who use a telecommunications device for the deaf may call the Federal Relay Service at 1-800-877-8339.

SUPPLEMENTARY INFORMATION:

Background

On November 7, 2019, we published in the Federal Register (84 FR 60278) a document that proposed: (1) Changes to our October 7, 2014, proposed rule (79 FR 60419) to list the West Coast DPS of fisher as a threatened species under the Act (16 U.S.C. 1531 et seq.); and (2) a rule issued under section 4(d) of the Act for this DPS. The November 7, 2019, Federal Register publication (84 FR 60278) opened a 30-day public comment period, ending December 9, 2019. The Service now reopens the comment period as specified above in DATES.

See the November 7, 2019, Federal Register publication (84 FR 60278) for more information about previous Federal actions concerning this DPS.

Public Comments

We will accept comments and information during this reopened comment period on our November 7, 2019, revised proposed rule (84 FR 60278). We will consider information and recommendations from all interested parties. We intend that any final action resulting from the proposal will be based on the best scientific and commercial data available and will be as accurate and as effective as possible. Our final determination will take into consideration all comments and any additional information we receive during the comment period. Therefore, the final decision may differ from the November 7, 2019, revised proposed rule (84 FR 60278), based on our review of all information we receive during this rulemaking. Comments previously submitted need not be resubmitted and will be fully considered in preparation of the final determination.

Comments should be as specific as possible. Please include sufficient information with your submission (such as scientific journal articles or other publications) to allow us to verify any scientific or commercial information you assert. Please note that submissions merely stating support for, or opposition to, the action under consideration without providing supporting information, although noted, will not meet the standard of best available scientific and commercial data. Section 4(b)(1)(A) of the Act directs that determinations as to whether any species is endangered or threatened must be made “solely on the basis of the best scientific and commercial data available.”

You may submit your comments and materials by one of the methods listed in ADDRESSES. We request that you send comments only by the methods described in ADDRESSES. If you submit information via http://www.regulations.gov, your entire submission—including your personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov at Docket No. FWS-R8-ES-2018-0105, or by appointment, during normal business hours, at the Yreka Fish and Wildlife Office (see ADDRESSES). Our final determination concerning the November 7, 2019, revised proposed rule (84 FR 60278) will take into consideration all written comments we receive during the open comment periods and comments from peer reviewers. These comments will be included in the public record for this rulemaking, and we will fully consider them in the preparation of our final determination.

Authority

The authority for this action is the Endangered Species Act of 1973, as amended (16 U.S.C. 1531 et seq.).

Dated: December 10, 2019.
Margaret E. Everson,
Principal Deputy Director, Exercising the Authority of the Director for the U.S. Fish and Wildlife Service.

[FR Doc. 2019-27270 Filed 12-18-19; 8:45 am]

BILLING CODE 4333-15-P